DEPARTMENT OF JUSTICE

Notice of Extension of Public Comment Period Regarding Lodging of Consent Decrees Under the Comprehensive Environmental Response, Compensation, and Liability Act

On June 7, 2006 (71 FR 33001), the United States Department of Justice published notice of the lodging of the two consent decrees in United States v. Industrial Excess Landfill, Inc., Civil Action Number 5:89-CV-1988 (N.D. Ohio) (consolidated with State of Ohio v. Industrial Excess Landfill, Inc., Civil Action Number 5:91-CV-2559 (N.D. Ohio)). Because of a typographical error in that notice, the Department of Justice published a corrected notice on June 28, 2006 (71 FR 36827), without changing the period for receipt of public comment. The United States is now extending the period for public comment through and including July 31, 2006. All comments from the public on the consent decrees described below must be received by that date.

The two proposed Consent Decrees were lodged with the United States District Court for the Northern District of Ohio on May 26, 2006. The first Consent Decree resolves claims against PPG Industries, Inc. (“PPG”), brought by the United States on behalf of the Environmental Protection Agency (“EPA”) under Section 107 of the Comprehensive Environmental Response, Compensation, and Liability Act (“CERCLA”), 42 U.S.C. § 9607, for response costs incurred and to be incurred by the United States in responding to the release and threatened release of hazardous substances at the Industrial Excess Landfill Superfund Site (“Site”) in Uniontown, Ohio. The second Consent Decree resolves claims against Morgan Adhesives Co. (“Morgan”), brought by the Untied States on behalf of EPA under Section 107 of CERCLA, 42 U.S.C. § 9607, for response costs incurred and to be incurred by the United States in responding to the release and threatened release of hazardous substances at the Site, as well as CERCLA and other claims related to the Site brought against Morgan by the State of Ohio. Both Consent Decrees are de minimis settlements pursuant to Section 122(g)(1)(A) of CERCLA, 42 U.S.C. § 9622(g)(1)(A). Under their respective Consent Decrees, PPG will pay $752,500 to the United States, and Morgan will pay $334,016 to the United States and $15,984 to the State of Ohio, in reimbursement of the United States' and the State's response costs; the United States covenants not to sue PPG, and the United States and the State of Ohio covenant not to sue Morgan, regarding the Site, subject to certain reservations of rights.

The Department of Justice has previously provided notice that, under 42 U.S.C. 9622(d)(2), 9622(g)(12) and 28 CFR § 50.7, it would receive comments relating to the Consent Decree for a period of 30 days from the original publication of notice of lodging in the Federal Register. That comment period would have ended on July 7, 2006. A party to the underlying lawsuit requested a relatively short extension of time to submit comments on the consent decree. The Department of Justice, in consultation with EPA and co-Plaintiff State of Ohio, determined that the extension is appropriate but that the comment period should be extended for the entire public.

Therefore, the United States Department of Justice will accept comment on either or both of the proposed consent decrees through July 31, 2006. Comments should be addressed to the Assistant Attorney General, Environment and Natural Resources Division, P.O. Box 7611, U.S. Department of Justice, Washington, DC 20044-7611, and should refer to United States v. Industrial Excess Landfill, Inc., DOJ Ref. #90-11-3-247/2.

Each Consent Decree may be examined at the Office of the United States Attorney, Northern District of Ohio, 801 West Superior Avenue, Suite 400, Cleveland, Ohio 44113, and the Region 5 Office of the Environmental Protection Agency, 77 W. Jackson Blvd., Chicago, IIlinois 60604. During the public comment period, each Consent Decree may also be examined on the following Department of Justice Web site: http://www.usdoj.gov/enrd/open.html.

A copy of each Consent Decree may also be obtained by mail from the Consent Decree Library, P.O. Box 7611, U.S. Department of Justice, Washington, DC 20044-7611, or by faxing or e-mailing a request to Tonia Fleetwood, tonia.fleetwood@usdoj.gov, Fax No. (202) 514-0097, phone confirmation number (202) 514-1547. In requesting a copy from the Consent Decree library, please specify whether requesting PPG Consent Decree, the Morgan Consent Decree, or both, and please enclose a check payable to the U.S. Treasury in the amount of $5.50 for the PPG Consent Decree, $6.25 for the Morgan Consent Decree, or $11.75 for both Consent Decrees (for reproduction costs of 25 cents per page).

William D. Brighton,
Assistant Section Chief, Environmental Enforcement Section, Environment and Natural Resources Division.

[FR Doc. 06-6347 Filed 7-18-06; 8:45 am]

BILLING CODE 4410-15-M